DEPARTMENT OF THE TREASURY

Submission for OMB Review; Comment Request

March 15, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 23, 2001, to be assured of consideration.

Internal Revenue Service (IRS)

OMB Number: 1545-1714.

Form Number: None.

Type of Review: Extension.

Title: Tip Reporting Alternative Commitment (TRAC) for most industries.

Description: Information is required by the Internal Revenue Service in its tax compliance efforts to assist employers and their employees in understanding and complying with section 6053(a), which requires employees to report all their tips monthly to their employers.

Respondents: Business or other for-profit.

Estimated Number of Respondents/Recordkeepers: 300.

Estimated Burden Hours Per Respondent/Recordkeeper: 16 hours, 16 minutes.

Frequency of Response: On occasion.

Estimated Total Reporting/Recordkeeping Burden: 4,877 hours.

OMB Number: 1545-1715.

Form Number: None.

Type of Review: Extension.

Title: Tip Rate Determination Agreement (for use by employers in the food and beverage industry).

Description: Information is required the Internal Revenue Service in its tax compliance efforts to assist employers and their employees in understanding and complying with section 6053(a), which requires employees to report all their tips monthly to their employers.

Respondents: Business or other for-profit.

Estimated Number of Respondents/Recordkeepers: 200.

Estimated Burden Hours Per Respondent/Recordkeeper: 11 hours.

Frequency of Response: On occasion.

Estimated Total Reporting/Recordkeeping Burden: 1,737 hours.

OMB Number: 1545-1716.

Notice Number: Notice 2001-1.

Type of Review: Extension.

Title: Employer-designed Tip Reporting Program for the Food and Beverage Industry (EmTRAC).

Description: Information is required by the Internal Revenue Service in its tax compliance efforts to assist employers and the employees in understanding and complying with section 6053(a), which requires employees to report all their tips monthly to their employers.

Respondents: Business or other for-profit.

Estimated Number of Respondents/Recordkeepers: 20.

Estimated Burden Hours Per Respondent/Recordkeeper: 44 hours.

Frequency of Response: On occasion.

Estimated Total Reporting/Recordkeeping Burden: 870 hours.

Clearance Officer: Garrick Shear, Internal Revenue Service, Room 5244, 1111 Constitution Avenue, NW., Washington, DC 20224.

OMB Reviewer: Alexander T. Hunt, Office of Management and Budget, Room 10202, New Executive Office Building, Washington, DC 20503; (202) 395-7860.

Mary A. Able,
Departmental Reports Management Officer.

[FR Doc. 01-7075 Filed 3-21-01; 8:45 am]

BILLING CODE 4830-01-U